NUCLEAR REGULATORY COMMISSION

Strategic Plan for Fiscal Years 2008-2013, NUREG-1614, Volume 4; Availability

AGENCY: Nuclear Regulatory Commission.

ACTION: Notice of availability.

SUMMARY: The Nuclear Regulatory Commission (NRC) is announcing the availability of NUREG-1614, Volume 4, “U.S. Nuclear Regulatory Commission, FY 2008-2013 Strategic Plan,” dated February, 21, 2008.

FOR FURTHER INFORMATION CONTACT: Tamara Trocki, Division of Planning, Budget, and Analysis, Office of the Chief Financial Officer, U.S. Nuclear Regulatory Commission, Washington, DC 20555-0001; Telephone 301-415-7439.

ADDRESSES: NUREG-1614, Volume 4, and other publicly available documents related to this notice are available for electronic viewing on public computers in the NRC's Public Document Room (PDR), at One White Flint North, 11555 Rockville Pike, Rockville, Maryland. The PDR's reproduction services contractor will provide copies of publicly available documents for a fee.

Publicly available documents related to this notice, including public comments received, are also available electronically through the NRC's Electronic Reading Room at http://www.nrc.gov/NRC/reading-rm/adams.html. From this site, the public can gain entry into the NRC's Agencywide Documents Access and Management System (ADAMS), which provides text and image files of NRC's public documents. If there are problems in accessing the documents located in ADAMS, contact the (PDR) Reference staff at 1-800-397-4209, 301-415-4737 or by e-mail to PDR@nrc.gov.

A free single copy of NUREG-1614, Volume 4, to the extent of availability, may be requested by writing to the Office of the Chief Information Officer, Reproduction and Distribution Services Section, U.S. Nuclear Regulatory Commission, Printing and Graphics Branch, Washington, DC 20555-0001.

Some publications in the NUREG series available through the NRC's Electronic Reading Room at http://www.nrc.gov/reading-rm/doc-collections are updated regularly and may differ from the last printed version.

SUPPLEMENTARY INFORMATION: The NRC has developed a new strategic plan for FY 2008-2013 that updates the agency's current strategic plan. The Strategic Plan for Fiscal Years 2008-2013 describes the strategies and means by which the NRC intends to accomplish its mission, which is to “license and regulate the Nation's civilian use of byproduct, source, and special nuclear materials to ensure adequate protection of public health and safety, promote the common defense and security, and protect the environment.”

The Strategic Plan for Fiscal Years 2008-2013 has two goals: Safety and Security. The agency's safety goal is to ensure adequate protection of public health and safety and the environment. Specific strategies are identified in the strategic plan to achieve the agency's safety strategic outcomes: prevent the occurrence of reactor accidents, inadvertent criticality events, releases of radioactive materials that result in significant radiation exposures, fatalities or adverse environmental impacts.

The agency's Security goal is to ensure adequate protection in the secure use and management of radioactive materials. To achieve this goal, specific strategies are identified in the strategic plan to achieve the agency's security strategic outcome to prevent any instances where licensed radioactive materials are used domestically in a manner hostile to the United States.

In addition to these two strategic goals, the agency has three Organizational Excellence Objectives: Openness, Effectiveness, and Operational Excellence. These objectives support the agency's activities to achieve its Safety and Security goals as well as to function as a strong, independent, stable, and predictable regulator.

The final version of NUREG-1614, Volume 4, will be released on February 15, 2008.

Dated at Rockville, Maryland, this 13th day of February, 2008.
For the Nuclear Regulatory Commission.
Leslie W. Barnett,
Director, Division of Planning, Budget, and Analysis, Office of the Chief Financial Officer.

[FR Doc. E8-3091 Filed 2-19-08; 8:45 am]

BILLING CODE 7590-01-P